DEPARTMENT OF ENERGY

Federal Energy Regulatory Commission

[Docket No. AD04-13-000]

Assessing the State of Wind Energy in Wholesale Electricity Markets; Notice of Technical Conference

October 4, 2004.

Take notice that the Federal Energy Regulatory Commission will host a technical conference on Wednesday, December 1, 2004 to assess the state of wind energy in wholesale electricity markets. The workshop will be held at the Adams Mark Denver Hotel, 1550 Court Place, Denver, Colorado 80202. The workshop is scheduled to begin at 9 a.m. and end at approximately 5 p.m. (Mountain Standard Time). The Commissioners will attend and participate.

The goal of the technical conference is to explore possible policy changes that would better accommodate the participation of wind energy in wholesale markets. Topics may include:

• The interest in and need for reform to the transmission service options under open-access transmission tariffs to better accommodate intermittent resources like wind;

• Whether the current methodology for determining imbalance charges unduly penalizes intermittent resources;

• The role of regional transmission planning processes;

• The inclusion of wind energy in State resource adequacy plans and installed capacity markets; and

• Experiences of transmission providers that currently transmit wind energy.

An agenda will be made available at a later time.

The conference is open for the public to attend, and registration is not required; however, in-person attendees are asked to register for the conference on-line by close of business on Monday, November 29, 2004 at http://www.ferc.gov/whats-new/registration/wind-1201-form.asp.

Transcripts of the conference will be immediately available from Ace Reporting Company (202) 347-3700 or 1-800-336-6646) for a fee. They will be available for the public on the Commission's eLibrary system seven calendar days after FERC receives the transcript. Additionally, Capitol Connection offers the opportunity for remote listening of the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

For more information about the conference, please contact Sarah McKinley at (202) 502-8004, sarah.mckinley@ferc.gov.

Magalie R. Salas,
Secretary.

[FR Doc. E4-2593 Filed 10-12-04; 8:45 am]

BILLING CODE 6717-01-P